DEPARTMENT OF ENERGY

Federal Energy Regulatory Commission

[Project No. 943-131]

Public Utility District No. 1 of Chelan County, Washington; Notice of Application for Approval of Contract for the Sale of Power for a Period Extending Beyond the Term of the License

Take notice that on October 15, 2019, Public Utility District No. 1 of Chelan County, Washington (Chelan PUD), filed with the Commission an application for approval of a contract for the sale of power from its licensed Rock Island Hydroelectric Project No. 943 (Project) for a period from the expiration of its existing license for the Project on December 31, 2028, through December 31, 2030. The Project is located on the Columbia River in Chelan and Douglas counties, Washington.

Section 22 of the Federal Power Act, 16 U.S.C. 815, provides that contracts for the sale and delivery of power for periods extending beyond the termination date of a license may be entered into upon the joint approval of the Commission and the appropriate state public service commission or other similar authority in the state in which the sale or delivery of power is made. Chelan PUD asserts that approval of the submitted contract is in the public interest.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on February 10, 2020.

Dated: January 9, 2020.
Kimberly D. Bose,
Secretary.

[FR Doc. 2020-00627 Filed 1-15-20; 8:45 am]

BILLING CODE 6717-01-P